DEPARTMENT OF TRANSPORTATION

Surface Transportation Board

[STB Finance Docket No. 34703]

Illinois Central Railroad Company—Trackage Rights Exemption—Union Pacific Railroad Company

Union Pacific Railroad Company (UP) has agreed to grant certain trackage rights to Illinois Central Railroad Company (IC) over UP's line of railroad extending from milepost AH38.5 at Joliet, IL, to milepost AH39.43 near South Joliet, IL, a distance of approximately 0.93 miles.¹

¹ The trackage rights agreement was concurrently filed under seal, along with a motion for protective order. A protective order was served in this proceeding on June 2, 2005.

The transaction was scheduled to be consummated on or after the May 26, 2005 effective date of the exemption.

The purpose of the trackage rights is to convert an existing 1987 Agreement between the parties granting IC operating rights over the line to trackage rights, so that IC will pay UP a trackage rights fee and UP will assume all costs of maintenance of the line.²

² Under the existing 1987 Agreement, IC and UP share maintenance and other costs.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34703 must be filed with the Surface Transportation Board, 1925 K Street, NW., Washington, DC 20423-0001. In addition, one copy of each pleading must be served on Michael J. Baron, Jr., Counsel for Illinois Central Railroad Company, CN, 17641 S. Ashland Avenue, Homewood, IL 60430.

Board decisions and notices are available on our Web site at http://www.stb.dot.gov.

Decided: June 2, 2005.
By the Board, David M. Konschnik, Director, Office of Proceedings.
Vernon A. Williams,
Secretary.

[FR Doc. 05-11282 Filed 6-7-05; 8:45 am]

BILLING CODE 4915-01-P